DEPARTMENT OF COMMERCE

International Trade Administration

[A-841-804]

Notice of Postponement of the Final Determination of Investigation: Steel Concrete Reinforcing Bars From Moldova

AGENCY: Import Administration, International Trade Administration, Department of Commerce.

EFFECTIVE DATE: February 26, 2001.

FOR FURTHER INFORMATION CONTACT: Nithya Nagarajan or Michele Mire at (202) 482-5253 or (202) 482-4711, respectively; AD/CVD Enforcement, Office 4, Group II, Import Administration, Room 1870, International Trade Administration, U.S. Department of Commerce, 14th Street and Constitution Avenue, NW., Washington, DC 20230.

The Applicable Statute and Regulations

Unless otherwise indicated, all citations to the statute are references to the provisions effective January 1, 1995, the effective date of the amendments made to the Tariff Act of 1930 (the Act) by the Uruguay Round Agreements Act (URAA). In addition, unless otherwise indicated, all citations to Department of Commerce (the Department) regulations refer to the regulations codified at 19 CFR part 351 (2000).

Background

This investigation was initiated on July 18, 2000. See Initiation of Antidumping Duty Investigations: Steel Concrete Reinforcing Bars from Austria, Belarus, Indonesia, Japan, Latvia, Moldova, the People's Republic of China, Poland, the Republic of Korea, the Russian Federation, Ukraine and Venezuela, 65 FR 45754 (July 25, 2000). The period of investigation (POI) is October 1, 1999 through March 31, 2000. On January 30, 2001, the Department published the notice of preliminary determination. See Notice of Preliminary Determination of Sales at Less than Fair Value: Steel Concrete Reinforcing Bars from Moldova, 66 FR 8338 (January 30, 2001).

Postponement of Final Determination

Section 735(a)(2) of the Act provides that a final determination may be postponed until not later than 135 days after the date of the publication of the preliminary determination if, in the event of an affirmative determination, a request for such postponement is made by exporters who account for a significant proportion of exports of the subject merchandise, or in the event of a negative preliminary determination, a request for such postponement is made by petitioner. The Department's regulations, at 19 CFR 351.210(e)(2), require that requests by respondents for postponement of a final determination be accompanied by a request for extension of provisional measures from a four-month period to not more than six months.

On February 1, 2001, JV CJSC Moldova Steel Works (MSW), the respondent in this investigation, requested that the Department extend the final determination for the maximum statutory period of 135 days after the publication of the preliminary determination. MSW also requested that the Department extend the imposition of provisional measures from a four-month period to not more than six months. Accordingly, since we have made an affirmative preliminary determination, and MSW is the sole producer of the subject merchandise in Moldova, we have postponed the final determination until not later than 135 days after the date of publication of the preliminary determination or June 14, 2001.

This notice is published in accordance with section 735(a)(2) of the Act. Effective January 20, 2001, Bernard T. Carreau is fulfilling the duties of Assistant Secretary for Import Administration.

Dated: February 15, 2001.
Bernard T. Carreau,
Deputy Assistant Secretary, AD/CVD Enforcement Group II.

[FR Doc. 01-4661 Filed 2-23-01; 8:45 am]

BILLING CODE 3510-DS-P